DEPARTMENT OF HOMELAND SECURITY

U.S. Customs and Border Protection

19 CFR Part 101

[CBP Dec. 10—05; USCBP-2009-0035]

RIN 1651-AA79

Further Consolidation of CBP Drawback Centers

AGENCY: Customs and Border Protection, DHS.

ACTION: Final rule.

SUMMARY: This document adopts as a final rule the proposal to amend title 19 of the Code of Federal Regulations to reflect the closure of the Customs and Border Protection (“CBP”) Drawback Center located at the Port of Los Angeles-Long Beach, California. The closure of this Drawback Center is necessary because of decreases in claim filings and drawback claim values at the Los Angeles Drawback Center and is part of CBP's planned consolidation of its drawback program.

DATES: Effective Date: This rule is effective June 4, 2010.

FOR FURTHER INFORMATION CONTACT: Christine Kegley, Import Operations Branch, Office of Field Operations, Customs and Border Protection, (202) 344-2319.

SUPPLEMENTARY INFORMATION:

Background

On December 1, 2009, Customs and Border Protection (“CBP”) published in the Federal Register (74 FR 62715) a proposed amendment to the CBP regulations to reflect the proposed closing of the Los Angeles Drawback Center as part of the agency's planned consolidation of its drawback program. The document requested public comment regarding the proposed action. In that document, CBP noted that because of the decrease in the number of drawback claims filed and processed at the Los Angeles Drawback Center since 2003 and the small number of claims filed overall in the Los Angeles center, CBP proposed to close this drawback center, thus leaving four centers located in its key geographical areas of Chicago, Houston, New York, and San Francisco. CBP believes that closing the Los Angeles Drawback Center is required in order to attain CBP's original goals of conserving resources, increasing efficiency, exercising fiscal responsibility, and promoting greater uniformity in the processing of drawback claims. In accordance with 19 U.S.C. 2075(g)(2)(C), the Homeland Security Act of 2002 (6 U.S.C. 217(b)(2)), and the SAFE Port Act of 2006 (6 U.S.C. 115(D)), CBP notified the House Committee on Ways & Means, the Senate Committee on Finance, and House Committee on Homeland Security of its intent to close the Los Angeles Drawback Center. The Congressional notification period expired and CBP did not receive from Congress any objections to the proposed closing of the Los Angeles Drawback Center.

The document also stated that any future claims will be required to be sent to one of the four remaining drawback centers located in Chicago, Houston, New York, or San Francisco. All remaining claims that were filed at the Los Angeles Drawback Center prior to closure that have not been liquidated and still require CBP review will be forwarded to the San Francisco Drawback Center for final processing.

Discussion of Comments

One comment was received in response to the solicitation of public comment in the proposed rule. A description of the comment received, together with CBP's analysis, is set forth below.

Comment: A commenter expressed concern about the proper staffing levels at the San Francisco Drawback Center to accommodate the additional drawback claim filings it will receive due to the closure of the Los Angeles Drawback Center.

CBP Response: CBP concurs that staffing at the drawback centers is very important. CBP is mandated by the Homeland Security Act of 2002 to maintain a minimum staffing number for drawback specialists. Two drawback specialist positions that were allotted to the Los Angeles Drawback Center have been reassigned to the San Francisco Drawback Center to address the anticipated increase in workload. CBP will continually monitor drawback specialist staffing levels so that each of the CBP Drawback Centers is appropriately staffed.

Conclusion

After analysis of the comment and further review of the matter, CBP has determined to adopt as a final rule the amendment proposed in the Notice of Proposed Rulemaking published in the Federal Register (74 FR 62715) on December 1, 2009.

Executive Order 12866

This final rule does not meet the criteria to be considered an economically “significant regulatory action” under Executive Order 12866 because it will not result in the expenditure of over $100 million in any one year. The Office of Management and Budget (OMB) has not reviewed this rule under that Order.

Regulatory Flexibility Act

The Regulatory Flexibility Act (5 U.S.C. 601 et seq.) requires federal agencies to examine the impact a rule would have on small entities. A small entity may be a small business (defined as any independently owned and operated business not dominant in its field that qualifies as a small business per the Small Business Act); a small not-for-profit organization; or a small governmental jurisdiction (locality with fewer than 50,000 people).

In the proposed rule, CBP stated that the amendment would not likely have a significant economic impact on a substantial number of small entities. CBP solicited public input, and did not receive any comments challenging that finding. We certify, therefore, that this rule will not have a significant economic impact on a substantial number of small entities.

Signing Authority

This document is being issued in accordance with 19 CFR 0.2(a), which provides that the authority of the Secretary of the Treasury with respect to CBP regulations that are not related to customs revenue functions was transferred to the Secretary of Homeland Security pursuant to Section 403(l) of the Homeland Security Act of 2002. Accordingly, this final rule to amend such regulations may be signed by the Secretary of Homeland Security (or her delegate).

List of Subjects in 19 CFR Part 101

Customs duties and inspection, Customs ports of entry.

Amendment to the Regulations

For the reasons set forth above, part 101 of the title 19 of the Code of Federal Regulations (19 CFR part 101) is amended as follows:

PART 101—GENERAL PROVISIONS

1. The general authority citation for part 101 continues to read as follows:

Authority: 5 U.S.C. 301; 19 U.S.C. 2, 66, 1202 (General Note 3(i), Harmonized Tariff Schedule of the United States), 1623, 1624, 1646a.

Section 101.3 and 101.4 also issued under 19 U.S.C. 1 and 58b.

* * * * *

§ 101.3 [Amended]

2. In § 101.3, the table in paragraph (b)(1) is amended by removing the plus sign in the “Ports of entry” column before the column listing for “Los Angeles-Long Beach” under the state of California.

Dated: April 28, 2010.
Alan Bersin,
Commissioner, U.S. Customs and Border Protection.

[FR Doc. 2010-10506 Filed 5-4-10; 8:45 am]

BILLING CODE 9111-14-P